DEPARTMENT OF HEALTH AND HUMAN SERVICES

[CMS-9935-N]

HHS-Operated Risk Adjustment Methodology Meeting; March 25, 2016

AGENCY: Centers for Medicare & Medicaid Services (CMS), HHS.

ACTION: Notice of meeting.

SUMMARY: This notice announces a meeting on the HHS-operated risk adjustment program, which is open to the public. The purpose of this stakeholder meeting is to solicit feedback on the HHS-operated risk adjustment methodology and to discuss potential improvements to the HHS risk adjustment methodology for the 2018 benefit year and beyond. This meeting, the “HHS-operated Risk Adjustment Methodology Conference,” will allow issuers, States, and other interested parties to discuss the contents of a White Paper to be published in advance of this meeting. This meeting will also provide an opportunity for participants to ask clarifying questions. The comments and information HHS obtains through this meeting may be used in future policy making for the HHS risk adjustment program.

DATES: Date of Meeting: March 25, 2016 from 9:00 a.m. to 4:30 p.m., Eastern daylight time (e.d.t.).

Deadline for Onsite Participation: March 18, 2016, 5:00 p.m., e.d.t.

Deadline for Webinar Meeting Participation: March 23, 2016, 5:00 p.m. e.d.t.

Deadline for Requesting Special Accommodations: March 18, 2016, 5:00 p.m. e.d.t.

Meeting Address: The meeting will be held at the CMS Single Site campus, 7500 Security Boulevard, Baltimore, MD 21244.

Registration: Registration will be on a first-come, first-serve basis, limited to two (2) participants per organization for the onsite location participation, and three (3) participants per organization for the webinar participation. Each individual can only register for either the onsite location participation or webinar participation. To change a registration option from onsite to webinar participation, the registrant must cancel the existing registration (onsite or webinar) before attempting to register for the other option.

Registration Instructions: To register to attend the meeting either onsite or through webinar participation, visit the Registration for Technical Assistance Portal (REGTAP) at www.REGTAP.info. If not already a REGTAP user, register as a new user, log in and go to “My Dashboard” and select “Training Events” to register for the onsite or webinar event for the HHS-operated Risk Adjustment Methodology Meeting. Registrants can only register to attend the meeting onsite at CMS or remotely by webinar.

FOR FURTHER INFORMATION CONTACT: For further information, please send inquiries about the logistics of the meeting to registrar@REGTAP.info. Users should submit inquiries and comments pertaining to content covered during the meeting to www.REGTAP.info. To submit an inquiry in REGTAP, select “Submit an Inquiry” from “My Dashboard” then select “HHS-operated Risk Adjustment Methodology Meeting” from the Event Title dropdown menu and enter the question or comment. Users can submit their comments and upload attachments as needed. REGTAP will send the user an acknowledgement upon receipt of the comment. The CCIIO's Press Office at (202) 690-6145 will handle all press inquiries.

SUPPLEMENTARY INFORMATION:

I. Background

This notice announces a meeting on the HHS-operated risk adjustment program to discuss potential improvements to the HHS risk adjustment methodology for the 2018 benefit year and beyond. This meeting will focus on the permanent risk adjustment program under section 1343 of the Affordable Care Act when HHS is operating a risk adjustment program on behalf of a State (referred to as the HHS-operated risk adjustment program).

We are committed to stakeholder engagement in developing the detailed processes of the HHS-operated risk adjustment program. The purpose of this meeting is to share information with issuers, States, and interested parties about the risk adjustment methodology, offer an opportunity for these stakeholders to comment on key elements of the risk adjustment methodology, and discuss potential improvements to the HHS risk adjustment methodology for the 2018 benefit year and beyond.

II. Meeting Agenda

The HHS-operated Risk Adjustment Methodology Conference will share information with stakeholders including issuers, States, and interested parties about the HHS-operated risk adjustment methodology and gather feedback on a White Paper on the HHS-operated risk adjustment methodology that will be issued in March 2016. The HHS-operated Risk Adjustment Methodology Conference will focus on an overview of the HHS-operated risk adjustment methodology and other international risk adjustment models, what we have learned from the 2014 benefit year of the risk adjustment program and specific areas of potential refinements to the methodology. The meeting is open to the public, but attendance is limited to the space available. There are capabilities for remote access. Persons wishing to attend this meeting must register by the date listed in the DATES section, and register using the information in the “REGISTRATION” section.

III. Security, Building, and Parking Guidelines

The meeting is open to the public, but attendance is limited to the space available. Persons wishing to attend this meeting must register by using the instructions in the “REGISTRATION” section of this notice by the date specified in the DATES section of this notice.

This meeting will be held in a Federal government building; therefore, Federal security measures are applicable. We recommend that confirmed registrants arrive reasonably early, but no earlier than 45 minutes prior to the start of the meeting, to allow additional time to clear security. Security measures include the following:

• Presentation of government-issued photographic identification to the Federal Protective Service or Guard Service personnel.

• Inspection of vehicle's interior and exterior (this includes engine and trunk inspection) at the entrance to the grounds. Parking permits and instructions will be issued after the vehicle inspection.

• Inspection, via metal detector or other applicable means of all persons brought entering the building. We note that all items brought into CMS, whether personal or for the purpose of presentation or to support a presentation, are subject to inspection. We cannot assume responsibility for coordinating the receipt, transfer, transport, storage, set-up, safety, or timely arrival of any personal belongings or items used for presentation or to support a presentation.

Note: Individuals who are not registered in advance will not be permitted to enter the building and will be unable to attend the meeting. The public may not enter the building earlier than 45 minutes prior to the convening of the meeting.

All visitors must be escorted in areas other than the lower and first floor levels in the Central Building.

Dated: January 4, 2016.
Andrew Slavitt,
Acting Administrator, Centers for Medicare & Medicaid Services.

[FR Doc. 2016-00219 Filed 1-8-16; 8:45 am]

BILLING CODE 4120-01-P